SMALL BUSINESS ADMINISTRATION

Notice of Renewal of Council on Underserved Communities

AGENCY: Small Business Administration.

ACTION: Notice.

SUMMARY: Pursuant to the Federal Advisory Committee Act and its implementing regulations, SBA is issuing this notice to announce the renewal of its Council on Underserved Communities. This advisory committee is being renewed to help the agency identify and address needs of small businesses on underserved urban and rural communities.

FOR FURTHER INFORMATION CONTACT: Questions about the Council on Underserved Communities may be directed to Andrienne Johnson, Office of the Administrator, U.S. Small Business Administration, 409 Third Street SW, Washington, DC 20416; Andrienne.Johnson@sba.gov; 202-205-6605.

SUPPLEMENTARY INFORMATION: Pursuant to its authority in section 8(b)(13) of the Small Business Act, (15 U.S.C. 637), SBA is renewing the Council on Underserved Communities. This discretionary committee is being renewed in accordance with the provision of the Federal Advisory Committee Act, as amended (5 U.S.C. App.)

The Council provides advice, ideas and opinions on SBA programs and services and issues of interest to small businesses in underserved communities. Its members provide an essential connection between SBA and small businesses in inner city and rural communities. The Council's scope of activities includes reviewing SBA current program and policies, while working towards creating new and insightful place-base initiatives to spur economic growth, job creations, competitiveness, and sustainability.

Council members bring a number of important points of view to the Council: An understanding of the barriers to success for small business owners in underserved communities; challenges regarding access to capital; knowledge and experience in training and counseling entrepreneurs in underserved communities; and associations representing owners of small business in underserved communities.

The Council has a total of up to twenty (20) members, 19 members-at-large and one Chair. Members consist of current or former small business owners, community leaders, official from small business trade associations, and academic institutions. Members represent the interest of underserved communities across the country, both rural and urban.

Dated: February 2, 2022.
Andrienne Johnson,
SBA Committee Management Officer.

[FR Doc. 2022-02565 Filed 2-7-22; 8:45 am]

BILLING CODE P